DEPARTMENT OF THE INTERIOR

National Park Service

Notice of Inventory Completion: Northwest Christian College Museum, Kellenberger Library, Eugene, OR

AGENCY: National Park Service, Interior.

ACTION: Notice.

Notice is here given in accordance with the Native American Graves Protection and Repatriation Act (NAGPRA), 25 U.S.C. 3003, of the completion of an inventory of human remains in the possession of Northwest Christian College Museum, Kellenberger Library, Eugene, OR. The human remains were removed from San Juan County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Northwest Christian College Museum, Kellenberger Library and State Museum of Anthropology, University of Oregon professional staff in consultation with representatives of the Lummi Tribe of the Lummi Reservation, Washington.

In the early part of the 20th century, human remains representing a minimum of two individuals were removed from Lopez Island of the San Juan Islands, San Juan County, WA, by Theodore Leavitt. The human remains were donated by Mr. Leavitt sometime between 1922 and 1928 to the Eugene Bible University Museum (now the Northwest Christian College Museum, Kellenberger Library). According to the museum records one cranium was found by a tree on Lopez Island and the other cranium was located in Mud Bay on the beach of Lopez Island. No known individuals were identified. No associated funerary objects are present.

Lopez Island, part of the San Juan Islands in San Juan County, is located in the Northern Straits area and was historically occupied by a number of Salish peoples speaking various dialects of the Northern Straits language (Suttles, 1990). The Salish people or “tribes” and those surrounding them in the Northern Straits area practiced artificial cranial reshaping in the pattern noted in the remains of the two individuals. Therefore, the cranial reshaping of the human remains is consistent with the origin of the skeletal material as listed in the museum records and supports a cultural affiliation of the material with the Salish peoples of the Northern Straits area. By the mid-19th century most of the Salish peoples of the Northern Straits area were sent to the Lummi Reservation in northwestern Washington (Suttles, 1990).

Lopez Island is within the ancestral and traditional lands of the Lummi Tribe of the Lummi Reservation, Washington. Historical evidence, morphological characteristics, the presence of artificial cranial reshaping in the pattern typical for aboriginal Northwest Coast populations (fronto-occipital), and provenience information suggest that the human remains are Salish. Members of the Lummi Tribe of the Lummi Reservation, Washington are the present-day descendants of the Salish people of the Northern Straits area.

Officials of the Northwest Christian College Museum, Kellenberger Library have determined that, pursuant to 25 U.S.C. 3001 (9-10), the human remains described above represent the physical remains of two individuals of Native American ancestry. Officials of the Northwest Christian College Museum, Kellenberger Library also have determined that, pursuant to 25 U.S.C. 3001 (2), there is a relationship of shared group identity that can be reasonably traced between the Native American human remains and the Lummi Tribe of the Lummi Reservation, Washington.

Representatives of any other Indian tribe that believes itself to be culturally affiliated with the human remains should contact Maureen Cole, Director, Northwest Christian College, 828 E. 11th Avenue, Eugene, OR 97401, telephone (541) 684-7237, before September 2, 2005. Repatriation of the human remains to the Lummi Tribe of the Lummi Reservation, Washington may proceed after that date if no additional claimants come forward.

Northwest Christian College Museum, Kellenberger Library is responsible for notifying the Lummi Tribe of the Lummi Reservation, Washington that this notice has been published.

Dated: June 27, 2005
Sherry Hutt,
Manager, National NAGPRA Program.

[FR Doc. 05-15324 Filed 8-2-05; 8:45 am]

BILLING CODE 4312-50-S